DEPARTMENT OF COMMERCE

National Oceanic and Atmospheric Administration

RIN 0648-XL13

Endangered and Threatened Species; Take of Anadromous Fish

AGENCY: National Marine Fisheries Service (NMFS), National Oceanic and Atmospheric Administration (NOAA), Commerce.

ACTION: Notice, issuance of permit.

SUMMARY: Notice is hereby given that East Bay Municipal Utility District (EBMUD), 1 Winemasters Way, Lodi, CA 95240, has been issued a permit to take Central Valley, California steelhead (Oncorhynchus mykiss) for purposes of scientific research.

ADDRESSES: The permit and related documents are available for review upon written request or by appointment in the following office(s): Permits, Conservation and Education Division, Office of Protected Resources, NMFS, 1315 East-West Highway, Room 13705, Silver Spring, MD 20910; phone (301) 713-2289; fax (301) 427-2521; and NMFS, Protected Resources Division, 650 Capitol Mall, Suite 8-300, Sacramento, CA 95814-4706; phone (916) 930-3600; fax (916) 930-3629.

FOR FURTHER INFORMATION CONTACT: Shirley Witalis, phone (916) 930-3606.

SUPPLEMENTARY INFORMATION: On June 27, 2008, notice was published in the Federal Register (73 FR 36494), that a request for a scientific research permit to take Central Valley steelhead had been submitted by the above-named organization. The requested permit has been issued under the authority of the Endangered Species Act of 1973, as amended (ESA; 16 U.S.C. 1531 et seq.) and the regulations governing the taking, importing, and exporting of endangered and threatened species (50 CFR parts 222-226). Researchers will annually capture, tag, and release adult and juvenile Central Valley steelhead in the Lower Mokelumne River through various sampling methods described in the permit application (e.g., trapping, seining, electrofishing, etc.). The purpose of the study is to conduct monitoring and research of anadromous and resident fishes to measure the success of the Lower Mokelumne River Restoration Program and to determine if the modifications of the Lower Mokelumne River Project are appropriate for conserving fish and wildlife resources in the Lower Mokelumne River. This permit also authorizes EBMUD lethal take of wild and hatchery adult and juvenile Central Valley steelhead in the Lower Mokelumne River for purposes of otolith extraction and analysis, to measure the expression of resident life history among natural and hatchery (O. mykiss) and assist the development of the Mokelumne River Hatchery steelhead Hatchery and Genetic Management Plan. The permit is issued for 5 years.

Issuance of this permit, as required by the ESA, was based on a finding that such permit (1) was applied for in good faith, (2) will not operate to the disadvantage of any endangered or threatened species, and (3) is consistent with the purposes and policies set forth in section 2 of the ESA.

Dated: October 14, 2008.
Angela Somma,
Chief, Endangered Species Division, Office of Protected Resources, National Marine Fisheries Service.

[FR Doc. E8-24800 Filed 10-16-08; 8:45 am]

BILLING CODE 3510-22-S